GENERAL SERVICES ADMINISTRATION

41 CFR Parts 301-10, 301-11, 301-50, 301-73, and Appendix D to Chapter 301

[FTR Amendment 2010-05; FTR Case 2010-306; Docket Number 2010-0018, Sequence 1]

RIN 3090-AJ08

Federal Travel Regulation (FTR); Lodging and Transportation Amendment

AGENCY: Office of Governmentwide Policy, General Services Administration (GSA).

ACTION: Final rule.

SUMMARY: The General Services Administration (GSA) is amending the Federal Travel Regulation (FTR) by revising and updating its policy on lodging and transportation. This final rule also updates an acronym and references to such in the FTR.

DATES: Effective Date: This final rule is effective November 15, 2010.

FOR FURTHER INFORMATION CONTACT: The Regulatory Secretariat (MVCB), Room 4041, GS Building, Washington, DC, 20405, (202) 501-4755, for information pertaining to status or publication schedules. For clarification of content, contact Ms. Cheryl D. McClain, Office of Governmentwide Policy (OGP), at (202) 208-4334 or e-mail at cheryl.mcclain@gsa.gov. Please cite FTR Amendment 2010-05; FTR case 2010-306.

SUPPLEMENTARY INFORMATION:

A. Background

GSA's Office of Governmentwide Policy (OGP) is updating the Federal Travel Regulation (FTR) by removing section 301-50.8. Section 301-50.8 contains language regarding limitations on travel arrangements for common carriers, commercial lodging, and car rental usage. Consequently, parts 301-10 and 301-11 will be revised to include the language pertaining to common carriers, commercial lodging and car rental accommodations. Specifically, OGP is revising section 301-10.105 regarding the basic requirements for using common carrier transportation and revising section 301-10.450 to provide guidance to travelers regarding renting vehicles under the Defense Travel Management Office's (DTMO) U.S. Government Car Rental Agreement. Also, section 301-11.11 is being revised to provide guidance to travelers who choose to obtain commercial lodging under a Government lodging agreement.

This final rule also updates references in section 301-73.106 and Appendix D to Chapter 301 to change “Surface Deployment Distribution Command” (SDDC) to “Defense Travel Management Office” (DTMO).

B. Executive Order 12866

This is not a significant regulatory action, and therefore, was not subject to review under Section 6(b) of Executive Order 12866, Regulatory Planning and Review, dated September 30, 1993. This final rule is not a major rule under 5 U.S.C. 804.

C. Regulatory Flexibility Act

This final rule will not have a significant economic impact on a substantial number of small entities within the meaning of the Regulatory Flexibility Act, 5 U.S.C. 601, et seq., because the revisions are not considered substantive. This final rule is also exempt from the Regulatory Flexibility Act per 5 U.S.C. 553(a)(2) because it applies to agency management or personnel. However, this final rule is being published to provide transparency in the promulgation of Federal policies.

D. Paperwork Reduction Act

The Paperwork Reduction Act does not apply because the final changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates to agency management and personnel.

List of Subjects in 41 CFR Parts 301-10, 301-11, 301-50, 301-73, and Appendix D to Chapter 301

Government employees, Lodging and transportation programs.

Dated: August 25, 2010.
Martha Johnson,
Administrator of General Services.

For the reasons set forth in the preamble, under 5 U.S.C. 5701-5709, GSA amends 41 CFR parts 301-10, 301-11, 301-50, 301-73, and Appendix D of Chapter 301 as set forth below:

PART 301-10—TRANSPORTATION EXPENSES

1. The authority citation for 41 CFR part 301-10 continues to read as follows:

Authority: 5 U.S.C. 5707, 40 U.S.C. 121(c), 49 U.S.C. 40118, OMB Circular No. A-126, revised May 22, 1992.

2. Remove the undesignated center heading “Airline” that appears immediately before § 301-10.105.

3. Revise § 301-10.105 to read as follows:

§ 301-10.105 What are the basic requirements for using common carrier transportation?

The basic requirements for using common carrier transportation fall into three categories:

(a) Using contract carriers, when available, and if your agency is a mandatory user of GSA's city-pair contracts for air passenger transportation services, unless you have an approved exception (see §§ 301-10.106 through 301-10.108 of this subpart);

(b) Using coach-class service, unless other than coach-class service is authorized under § 301-10.123 or § 301-10.162, and when travelling by ship, using lowest first-class accommodations, unless other than lowest first-class accommodations are authorized under § 301-10.183 of this subpart; and

(c) You must always use U.S. Flag Air Carrier (or ship) service for air passenger transportation or when travelling by ship, unless your travel circumstances meet one of the exceptions in §§ 301-10.135 through 301-10.138 or § 301-10.183 of this subpart.

4. Amend § 301-10.450 by revising the section heading, designating the existing paragraph as paragraph (a), and adding paragraph (b) to read as follows:

§ 301-10.450 When and from whom may I rent a vehicle for official travel when authorized?

* * * * *

(b) When authorized to use a rental vehicle, you should consider renting a vehicle from a vendor that participates in the Defense Travel Management Office (DTMO) U.S. Government Car Rental Agreement to avail yourself of the Agreement's benefits, including the insurance and damage liability provisions, unless you are OCONUS and no agreement is in place for your TDY location. The advantages of renting a car through the DTMO rental car program are:

(1) Rental car agreements are pre-negotiated;

(2) The agreement includes automatic unlimited mileage and collision damage insurance; and

(3) The rates established by the car rental agreement cannot be exceeded by the vendor.

PART 301-11—PER DIEM EXPENSES

5. The authority citation for 41 CFR part 301-11 continues to read as follows:

Authority: 5 U.S.C. 5707.

6. Revise § 301-11.11 to read as follows:

§ 301-11.11 How do I select lodging and make lodging reservations?

(a) You must make your lodging reservations through your agency's travel management service.

(b) You should always stay in a “fire safe” facility. This is a facility that meets the fire safety requirements of the Hotel and Motel Fire Safety Act of 1990 (the Act), as amended (see 5 U.S.C. 5707a).

(c) When selecting a commercial lodging facility, first consideration should be given to government lodging agreement programs such as FedRooms® (http://www.fedrooms.com). The advantages of obtaining lodging using the FedRooms® program are:

(1) Lodging rates are set at or below per diem rates;

(2) There are no add-on fees;

(3) The room cancellation deadline is 4 p.m. (or later) on the day of arrival;

(4) Most hotels offer last standard room availability rates;

(5) There are no early departure fees; and

(6) Rates are available using all booking channels (e.g., E-Gov Travel Service, Travel Management Service, FedRooms® Web site, and hotel reservation call centers). The FedRooms® rate code (XVU) must be entered to get the program benefits.

Note to § 301-11.11: 5 U.S.C. 5707a does not apply to the District of Columbia government.

PART 301-50—ARRANGING FOR TRAVEL SERVICES

7. The authority citation for 41 CFR part 301-50 continues to read as follows:

Authority: 5 U.S.C. 5707; 40 U.S.C. 121(c).

§ 301-50.8 [Removed]

8. Remove § 301-50.8.

PART 301-73—TRAVEL PROGRAMS

9. The authority citation for 41 CFR part 301-73 continues to read as follows:

Authority: 5 U.S.C. 5707; 40 U.S.C. 121(c).

§ 301-73.106 [Amended]

10. Amend § 301-73.106, paragraph (a)(3) by removing “Surface Deployment and Distribution Command (SDDC)” and adding “Defense Travel Management Office (DTMO)” in its place.

Appendix D to Chapter 301—[Amended]

11. Amend Appendix D to Chapter 301 by removing the entry “SDDC: Surface Deployment and Distribution Command” and alphabetically adding the entry “DTMO: Defense Travel Management Office”.

[FR Doc. 2010-25880 Filed 10-13-10; 8:45 am]

BILLING CODE 6820-14-P